DEPARTMENT OF THE INTERIOR

National Park Service

Flight 93 National Memorial Advisory Commission; Notice of meeting

AGENCY: National Park Service.

ACTION: Notice of April 28, 2007 meeting.

SUMMARY: This notice sets forth the date of the April 28, 2007 meeting of the Flight 93 Advisory Commission.

Dates: The public meeting of the Advisory Commission will be held on Saturday, April 28, 2007 from 12 noon to 3 p.m. (Eastern) and 9 a.m. to 12 noon (Pacific). The Commission will meet jointly with the Flight 93 Memorial Task Force.

Location: The meeting will be held in Fort Mason, Building 201, Golden Gate National Parks, San Francisco, California 94123-0022. To access Fort Mason, please use the entrance at Franklin and Bay Streets.

The meeting will be connected to the East Coast via teleconference at the Flight 93 National Memorial Office, 109 West Main Street, Suite 104, Somerset, Pennsylvania 15501. The public is encouraged and welcome to attend either the west coast meeting or the east coast teleconference.

Agenda: The April 28, 2007 joint Commission and Task Force meeting will consist of:

(1) Opening of Meeting and Pledge of Allegiance.

(2) Review and Approval of Commission Minutes from January 27, 2007.

(3) Reports from the Flight 93 Memorial Task Force and National Park Service. Comments from the public will be received after each report and/or at the end of the meeting.

(4) Old Business.

(5) New Business.

(6) Public Comments.

(7) Closing Remarks.

FOR FURTHER INFORMATION CONTACT: Joanne M. Hanley, Superintendent, Flight 93 National Memorial, 109 West Main Street, Somerset, PA 15501, 814.443.4557.

SUPPLEMENTARY INFORMATION: The meeting will be open to the public. Any member of the public may file with the Commission a written statement concerning agenda items. Address all statements to: Flight 93 Advisory Commission, 109 West Main Street, Somerset, PA 15501.

Dated: March 23, 2007.
Joanne M. Hanley,
Superintendent, Flight 93 National Memorial.

[FR Doc. 07-1781 Filed 4-10-07; 8:45 am]

BILLING CODE 4312-25-M